NATIONAL SCIENCE FOUNDATION

Sunshine Act Meetings; National Science Board

The National Science Board's Task Force on Administrative Burdens, pursuant to NSF regulations (45 CFR part 614), the National Science Foundation Act, as amended (42 U.S.C. 1862n-5), and the Government in the Sunshine Act (5 U.S.C. 552b), hereby gives notice of the CANCELLATION of the teleconference for the transaction of National Science Board business that was, published in the Federal Register on January 7, 2014 (79 FR 855).

CANCELLED DATE AND TIME: Thursday, January 30, 2014, 4 p.m.-5 p.m. EST.

This meeting will be rescheduled. Please refer to the National Science Board Web site www.nsf.gov/nsb/notices for additional information and a schedule update.

Ann Bushmiller,
Senior Counsel to the National Science Board.

[FR Doc. 2014-02368 Filed 1-31-14; 11:15 am]

BILLING CODE 7555-01-P